POSTAL SERVICE

Sunshine Act Meetings

FEDERAL REGISTER CITATION OF PREVIOUS ANNOUNCEMENT: 88 FR 76265.

PREVIOUSLY ANNOUNCED TIME AND DATE OF THE MEETING: Monday, November 13, 2023, at 1:00 p.m.; Tuesday, November 14, 2023, at 12:00 p.m.

PLACE: Washington, DC, at U.S. Postal Service Headquarters, 475 L'Enfant Plaza SW, in the Benjamin Franklin Room.

STATUS: Monday, November 13, 2023, at 1:00 p.m.-Closed. Tuesday, November 14, 2023, at 12:00 p.m.-Open.

CHANGES IN THE MEETING: Revised the order of the agenda items and added an item to the agenda.

REVISED MATTERS TO BE CONSIDERED:

Meeting of the Board of Governors

Monday, November 13, 2023, at 1:00 p.m. (Closed)

1. Strategic Issues.

2. Financial and Operational Matters.

3. Compensation and Personnel Matters.

4. Executive Session.

5. Administrative Items.

Tuesday, November 14, 2023, at 12:00 p.m. (Open)

1. Remarks of the Chairman of the Board of Governors.

2. Remarks of the Postmaster General and CEO.

3. Election of the Chairman and Vice Chairman

4. Approval of the Minutes.

5. Committee Reports.

6. Financial Matters.

a. FY2023 Annual Financial Report.

b. FY2023 10K and Financial Statements.

c. Annual Report to Congress.

d. FY2024 Integrated Financial Plan and Liquidity Outlook.

e. Authorization to Borrow Money and Issue Obligations.

f. FY2025 Congressional Reimbursement Request.

7. Quarterly Service Performance Report.

8. Approval of Tentative Agenda for the February 8, 2024 Meeting.

A public comment period will begin immediately following the adjournment of the open session on November 14, 2023, and shall last no more than 40 minutes. During the public comment period, members of the public present at the meeting may comment on any item or subject listed on the agenda for the open session. Registration of speakers at the public comment period is required. Speakers must register online at https://www.surveymonkey.com/r/bog-11-14-2023. No more than 30 minutes of the public comment period shall be allotted to registered speakers present at the meeting, and no more than three minutes shall be allotted to each speaker. The time allotted to each speaker will be determined after registration closes. Registration to speak during the public comment period shall end on November 9 at noon ET. Additionally, a select number of written comments will be read in whole or in part during the public comment period for no more than 10 minutes. Written comments on any item or subject listed on the agenda for the open session may be submitted by United States Mail to the address below or to the email address bog-inquiries@usps.gov. If submitted by email, written comments must include a valid email address for the person submitting the comment and the words “Public Comment Period” in the subject line. Written comments must be received before November 9 at noon ET. Participation in the public comment period is governed by 39 CFR 232.1(n). The next public comment period is scheduled for November 2024.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2023-25089 Filed 11-8-23; 4:15 pm]

BILLING CODE 7710-12-P